ENVIRONMENTAL PROTECTION AGENCY

[FRL-9461-1]

New York State Prohibition of Discharges of Vessel Sewage; Final Affirmative Determination

AGENCY: Environmental Protection Agency (EPA).

ACTION: Notice of determination.

SUMMARY: Notice is hereby given that, pursuant to Clean Water Act, Section 312(f)(3) (33 U.S.C. 1322(f)(3)), the State of New York has determined that the protection and enhancement of the quality of the New York State areas of the Long Island Sound (LIS or Sound) requires greater environmental protection, and has petitioned the United States Environmental Protection Agency (EPA), Region 2, for a determination that adequate facilities for the safe and sanitary removal and treatment of sewage from all vessels are reasonably available for those waters, so that the State may completely prohibit the discharge from all vessels of any sewage, whether treated or not, into such waters.

New York State has proposed to establish a “Vessel Waste No Discharge Zone” for the Long Island Sound that encompasses approximately 760 square miles, and includes the open waters, harbors, bays and navigable tributaries of the Sound and a portion of the East River, from the Hell Gate Bridge in the west to the northern bounds of Block Island Sound in the east. Today's action does not pertain to the waters of Mamaroneck Harbor, Huntington-Northport Bay Complex, Port Jefferson Complex, Hempstead Harbor and Oyster Bay/Cold Spring Harbor Complex, which have been previously designated as No Discharge Zones. The New York State Department of Environmental Conservation (NYSDEC) certified the need for greater protection of the water quality. EPA hereby makes a final affirmative determination that adequate facilities for the safe and sanitary removal and treatment of sewage from all vessels are reasonably available for the New York State areas of the Long Island Sound.

EPA published a tentative affirmative determination on April 11, 2011 in the Federal Register. Public comments were solicited for 30 days and the comment period ended on May 11, 2011. EPA received a total of twenty (20) comments via letter and e-mail. The comment tally was ten (10) in favor and ten (10) questioning or opposing the No Discharge Zone designation. All the relevant comments received have been considered in the final affirmative determination. This Federal Register document will address all comments submitted in response to the April 11, 2011 (76 FR 19989)), Federal Register document.

Response to Comments

1. Comment: Several commenter's including boaters, county legislators, non-governmental organizations, and community advocates expressed strong support of EPA's action to establish a vessel waste no discharge zone for the New York State portions of the LIS. One commenter further pointed out this action will reduce pathogens and chemicals, aid lobster population and further protect and restore the LIS.

EPA Response: EPA is in full agreement that designating the NYS portions of the LIS is an important step to further protect this valuable natural resource, water quality and habitats throughout the entire LIS waterbody.

2. Comment: One commenter stated that this application should be denied until New York State can adequately cover the area with at least one pumpout facility for every 150 vessels. Another commenter argued that the sixty eight (68) cited pumpout facilities, while on paper produces the claimed ratio of 1:179.3 boats, ignores the disparate location of these facilities compared to the many harbors, marinas and yacht clubs that cover the hundreds of miles of shoreline that are involved.

EPA Response: The criterion established pursuant to the Clean Vessel Act (CVA) for an adequate number of pumpouts is one pumpout per 300 to 600 vessels. Overall, the NYS area of the LIS exceeds this criterion, with a ratio of one pumpout station for every 179.3 vessels. Therefore, EPA's determination of adequacy is justified. EPA recognizes the importance of adequate pumpouts to service the boating activity within a given waterbody, and notes that all of the pumpouts are located in the vicinity of a port, where the vast majority of vessels' trips begin and end, so they are conveniently located and accessible. In addition, pumpout vessels (“honey dippers”) can be hired to provide water-based mobile pumpout services to vessels anywhere in the Sound. Pumpout vessels can be found by searching business listings for pumpout boats, mobile pumpout, or septic boats.

3. Comment: Several commenters stated that discharges from vessels with the required Marine Sanitation Devices (MSDs) are a relatively small source of pollution compared to the pollution caused by agricultural run-off, lawn fertilizer runoff and discharges of untreated sewage from Combined Sewer Overflows (CSOs), and therefore, banning vessel sewage discharges is unnecessary and unfair. Another commenter stated that vessel owners had spent thousands of dollars to install MSDs, and therefore banning discharges from those devices would be unfair.

EPA Response: These comments go beyond the scope of EPA's authority in this action. Because EPA's authority here is limited to determining whether adequate pumpout facilities exist, it cannot base its determination on whether vessel sewage is comparable in quantity or impact to other sources of pollution, or whether banning such discharges is otherwise unfair to boaters. However, it is noted that the sewage discharged from MSDs is treated with chlorine, quaternary ammonia and formaldehyde, which can all pose threats to the marine environment, especially, if present in substantial, concentrated amounts. EPA agrees with the NYSDEC, which certifies that the protection and enhancement of the waters of LIS require greater environmental protection than the applicable Federal standard. The designation of the LIS No Discharge Zone is an important step in further protecting the water quality, habitats and resources of the Sound.

4. Comment: One commenter stated that, while it is a good idea to make it illegal to discharge waste in Long Island Sound, there are not enough pumpout stations in the Port Jefferson area, noting that one of the town's pumpouts has been out of service for years, and that one of the pumpout boats is only in service on Friday through Sunday during the summer.

EPA Response: There are ten (10) pumpout facilities serving the Port Jefferson area, which are adequate to serve between 3,000 and 6,000 recreational vessels, as well as seven (7) pumpout facilities serving the neighboring Smithtown Bay area.

5. Comment: One commenter stated that New York State's petition should have been posted at http://www.reglations.gov so the public could review it, and determine whether it addresses the needs of commercial vessels.

EPA Response: In its April 11, 2011 Federal Register notice, EPA provided all of the factual information that it relied on in making its tentative affirmative determination and established a 30-day comment period. In addition, EPA's contact information was published in the notice in case further information was needed. Therefore, all of the relevant information was publicly available, and the public had a full opportunity to comment and/or request additional information.

6. Comment: Some commenters stated that the pumpout facilities that serve recreational vessels may not be reasonably available to commercial vessels, including ferries, towboats and barges, because some of those commercial vessels are too large to dock where the recreational vessel pumpout facilities are located and may carry more sewage than a recreational pumpout facility can accept. Some commenters also stated that pumpout trucks are not adequate because they are not available 24 hours a day, do not have adequate capacity to accept all of the sewage on some commercial vessels, and would add substantial cost to their operations. One commenter stated that the pumpout trucks could not service the Bridgeport/Port Jefferson Ferries because waiting in port for the pumpout to be completed would disrupt the ferry schedule.

EPA Response: EPA agrees that some commercial vessels are different from recreational vessels in terms of size, draft, and sewage holding capacity. In response to these comments, EPA and New York State gathered additional information from the commenters about the holding capacity of their commercial vessels, and gathered information from commercial pumpout providers about the availability of alternative pumpout facilities that can serve commercial vessels, and found that pumpout boats and pumpout trucks are widely available for hire throughout the New York side of the LIS, are able to reach commercial vessels either on the water or on commercial docks, and have more than adequate capacity to pumpout even the largest holding tank reported by the commenters. Specifically, the largest holding tank reported by the commenters was 2,500 gallons, while the largest pumpout truck capacity is 4,000 gallons. Significantly, the commenters reported that most commercial vessel holding tanks are under 1,000 gallons, while EPA and New York State found that many pumpout trucks have capacities greater than 1,000 gallons. One commercial vessel operator stated that pumpout facilities do exist at some commercial ports as well. Regarding the Bridgeport/Port Jefferson Ferry, EPA confirmed by a site visit, that a pumpout truck could drive close to the ferry and access the holding tank to pump it out while the ferry is at dock. Arrangements for a pumpout truck service could be made when the ferry is in port thus avoiding any disruption to the ferry schedule. Finally, the comments about the cost of commercial pumpout services are beyond the scope of EPA's determination, which is limited to whether adequate pumpout facilities are reasonably available.

FOR FURTHER INFORMATION CONTACT: Moses Chang (212) 637-3867, e-mail address: chang.moses@epa.gov.

SUPPLEMENTARY INFORMATION: Notice is hereby given that the State of New York (NYS or State) has petitioned the United States Environmental Protection Agency, Region 2, (EPA) pursuant to section 312(f)(3) of Public Law 92-500 as amended by Public Law 95-217 and Public Law 100-4, that adequate facilities for the safe and sanitary removal and treatment of sewage from all vessels are reasonably available for the New York State areas of the Long Island Sound. Adequate pumpout facilities are defined as one pumpout station for 300-600 boats under the Clean Vessel Act: Pumpout Station and Dump Station Technical Guidelines (Federal Register, Vol. 59, No. 47, March 10, 1994).

The Long Island Sound is one of the nation's premier water bodies, and supports a variety of possible uses—fish and shellfisheries, fish spawning areas, breeding grounds, valuable wildlife habitats, bathing beaches, commercial and recreational boating, and a profusion of recreational resources.

In 1985, recognizing the Sound's ecological and economic value, New York State partnered with Connecticut and the EPA to create and support the Long Island Sound Study (LISS). The Sound was recognized as an Estuary of National Significance under the Clean Water Act in 1988, and as such, is one of the nation's twenty-eight (28) National Estuary Programs.

The ecological, economic, and recreational resources provided by the Long Island Sound are vulnerable to the effects of poor water quality. The Sound was once home to some of the most productive shellfish beds in the nation, but many have now closed due to pathogen, low dissolved oxygen, and excessive nutrient contamination.

The State of Connecticut designated the Connecticut portion of the Long Island Sound as a No-Discharge Zone in 2007. Previously established No Discharge Zones in both New York State and Connecticut have made important reductions in vessel waste as a source of water pollution in the Long Island Sound. Degradation of any area, however, affects the whole. Extending the No Discharge Zone designation to the remainder of the Long Island Sound would therefore be a positive component of an overall strategy to protect and improve these waters and would create a unified approach to vessel waste for the entirety of this waterbody.

In order for EPA to determine that adequate facilities for the safe and sanitary removal and treatment of sewage from all vessels are reasonably available for the New York State areas of the Long Island Sound, the State must demonstrate that the pumpout-to-vessel ratio does not exceed 1:600. In its petition, the State described the recreational and commercial vessels that use the Sound, and the pumpout facilities that are available for their use.

The recreational vessel population, 11,693, was estimated using 2008 recreational vessel registrations. In addition to recreational vessels, the Sound is used by commercial vessels. The majority of commercial vessels are small fishing vessels, tankers, tugs, or barges. Because the small fishing vessels are comparably sized to the bulk of recreational vessels, they can make use of the existing vessel pumpouts that are available for recreational vehicles. The small commercial vessel population, 500, was estimated based on aerial photographs used to develop the 1996 Statewide Clean Vessel Plan. The figures for recreational and small commercial vessels were then compared to the number of pumpouts available to determine the applicable ratio and whether the requirement is met. There are fifty-two (52) pumpout facilities funded by the Clean Vessel Assistance Program (CVAP) in the relevant areas of the Sound. Of those, twenty-six (26) discharge to a holding tank and twenty-six (26) discharge to a municipal wastewater treatment plant. There are also sixteen (16) other (non-CVAP funded) pumpouts available for recreational and small commercial vessels that either discharge to a holding tank or to a municipal wastewater treatment plant. Therefore, the total number of pumpouts available for the 12,193 recreational and small commercial vessels that use the Sound is sixty-eight (68), and the pumpout-to-vessel ratio for those vessels is 1:179.3 (68:12,193).

The number of large commercial vessels was estimated using the following information sources: ballast manifests; U.S. Coast Guard assessments; correspondence with operators of ferries, cruise ships, towboats and barges; the State University of New York (SUNY); and the Port Authority of New York and New Jersey. Based on the information from those sources, on any given day, the numbers of large vessels in the New York waters of the Long Island Sound is less than fifty (50), partially due to complex navigational issues. These vessels have access to mobile pumpout facilities (i.e., “honey-dipper” trucks or boats), or may access pumpout facilities at their origination or destination ports outside of the Sound, thus reducing the need for services within the Sound.

A list of the pumpout facilities in New York areas of the Sound and adjacent nearby waters, along with their phone numbers, locations, hours of operation, water depth and fees, is provided as follows:

List of Pumpouts in the Proposed LIS NDZ Area
No. | Name | Location | Contact information | Dates/Days/Hours of operation | Water depth (feet) | Fee
1 | Wright Island Marina | Milton Harbor, New Rochelle | 914-235-8013 | Memorial Day to Labor Day; daily; 9 a.m.-5 p.m | 10 | $5.00.
2 | Nichols Yacht Yard, Inc | Mamaroneck Harbor, Mamaroneck | 914-698-6065 | Apr 15-Oct 15; daily; 9 a.m.-5 p.m | 8 | Free.
3 | Village of Mamaroneck—Harbor Island East and West Basin | Mamaroneck Harbor, Mamaroneck | 914-777-7703; VHF 16 | Apr-Nov; Mon-Sun (in season); 24 hours | 8.5 | Free.
4 | City of Rye—Municipal Boat Basin | Milton Harbor, Rye | 914-967-2011; VHF 16 | Apr 1-Oct 31; Mon-Sun; 8 a.m.-8 p.m | 5 | Free.
5 | Town of Huntington—Cold Spring Harbor Replace | Cold Spring Harbor, Huntington | 631-351-3049; VHF 9 | May 1-Oct 31; Mon-Sun; 8 a.m.-8 p.m | 6 | Free.
6 | Village of Greenport—Boat Engine Replacement | Greenport Harbor, Greenport | 631-477-2385; VHF 9 | May 1-Oct 31; Mon-Sun; 8 a.m.-5 p.m | N/A | $5.00.
7 | Port of Egypt Marine, Inc | Southold Bay, Southold | 631-765-2445 | Apr-Nov; Mon-Sun; 7:30 a.m.-5 p.m | 4 | $5.00.
8 | Claudio's Marina | Greenport Harbor, Greenport | 631-477-0355; VHF 9 | Apr 1-Nov 1; Mon-Sun; 8 a.m.-5 p.m | 10 | Free.
9 | Albertson Marine Inc | Southold Bay, Southold | 631-765-3232; VHF 16 & 18 | Apr-Dec (Closed Sundays, Jan-Mar); Mon-Sun, 8 a.m.-5 p.m. (Sun 9 a.m.-3 p.m.) | 5 | $5.00.
10 | Fishers Island Yacht Club Boat | Southold Bay, Fisher's Island | 631-788-7036; VHF 73 | Memorial Weekend to Columbus Day; Sat, Sun, & Holidays; 9 a.m.-6 p.m | 10 | Free.
11 | Old Dock Bluff Park Replace | Stony Brook Harbor, Smithtown | 631-360-7514; VHF 16 | Apr-Oct; Mon-Sun; 24 Hrs | 4 | Free.
12 | Town of Smithtown—Long Beach Mooring Area | Stony Brook Harbor, St. James | 631-360-7643; VHF 16 | Apr-Oct; Mon-Sun; 24 hours | 4 | Free.
13 | Coecles Harbor Marina and Boatyard, Inc | Coecles Harbor, Shelter Island | 631-749-0700; VHF 9 | May 15-Oct 12; Mon-Sun; 8 a.m.-5 p.m | 6 | $5.00.
14 | Village of Northport—Pumpout Boat | Northport Harbor, Northport | 631-261-7502; VHF 9 | May 15-Oct 15; Mon-Sun; 9 a.m.-5 p.m | N/A | Free.
15 | Town of Huntington—Woodbine Marina | Northport Harbor, Northport | 631-351-3192; VHF 9 | May 1-Oct 31; Mon-Sun; 8 a.m.-8 p.m | 6 | Free.
16 | Town of Huntington—South Town Dock | Huntington Harbor, Halesite | 631-351-3049; VHF 9 | May 1-Oct 31; Mon-Sun; Boats 8 a.m.-8 p.m.; Stationary station 24 hours | 10 | Free.
17 | Town of Huntington—Mill Dam Marina Pumpout | Huntington Harbor, Huntington | 631-351-3049; VHF 9 | Apr 1-Sept 30; Mon-Sun; 24 hours | 6 | Free.
18 | Town of Huntington—Huntington Boat Pumpout | Lloyd Harbor, Huntington | 631-351-3049; VHF 9 | Apr 20-Nov 30; Sat, Sun, & Holidays; 10 a.m.-8 p.m | 8 | Free.
19 | Town of Huntington—Halesite Marina Pumpout | Huntington Harbor, Huntington | 631-351-3049; VHF 9 | Apr 1-Sept 30; Mon-Sun; 24 hours | 10 | Free.
20 | Town of Huntington—Halesite Marina Boat | Huntington Harbor, Huntington | 631-351-3049; VHF 9 | Memorial Day to Labor Day; Sat & Sun; 10 a.m.-8 p.m | N/A | Free.
21 | Town of Huntington—Gold Star Battalion | Huntington Harbor, Huntington | 631-351-3049; VHF 9 | May 1-Oct 31; Mon-Sun; 8 a.m.-8 p.m | 8 | Free.
22 | Huntington Yacht Club | Huntington Harbor, Huntington | 631-427-4949; VHF 68 | Apr 15-Nov 15; Mon-Sun; 8 a.m.-8 p.m | 8 | $5.00.
23 | Town of Huntington—Mill Dam Marina Pumpout Upgrade | Huntington Harbor, Huntington | 631-351-3049; VHF 9 | Apr 1-Dec 31; Mon-Sun; 24 hours | 10 low tide | Free.
24 | Town of Brookhaven-Port Jefferson Boat-Replacement | Port Jefferson and Setauket Harbors & Conscience Bay, Port Jefferson | 631-473-3052; VHF 73 | May 15-Sept 15; Weekends & Holidays; 8 a.m.-4 p.m | N/A | Free.
25 | Town of Brookhaven-Mt. Sinai Boat-Replacement | Mt. Sinai Harbor, Port Jefferson | 631-473-3052; VHF 73 | Mid-May to Mid-Sept; Weekends & Holidays; 8 a.m.-4 p.m | N/A | Free.
26 | NYCDEP—World's Fair Marina | East River, Flushing | 631-595-4458; VHF 71 | May 1-Oct 31; Mon-Sun; 8 a.m.-6 p.m | 8 | Free.
27 | NYCDEP—Bayside Marina | Little Neck Bay, Flushing | 718-595-4458; VHF 72 | May 1-Oct 31; Mon-Sun; 24 hours | 4-12 | Free.
28 | Capri Marine & Yachting Center | Manhasset Bay, Port Washington | 516-883-7800; VHF 9 & 71 | May 1-Oct 31; Mon-Sun; 8 a.m.-10 p.m | 1.5 | Free.
29 | Town of Oyster Bay—Theodore Roosevelt Beach & Marina Upgrade | Oyster Bay | 516-624-6180 | N/A | N/A | Free.
30 | Town of Oyster Bay—Tappen Beach & Marina | Hempstead Harbor, Glenwood Landing | 516-624-6180; VHF 9 | Jan-Dec; Mon-Sun; 24 hours | 7-8 | Free.
31 | Sea Cliff Yacht Club | Hempstead Harbor, Sea Cliff | 516-671-7374; VHF 9 | May 15-Sept 15; Mon-Fri; 9 a.m.-5 p.m | 8 | $5.00.
32 | Town of North Hempstead—Port Washington Dock Pump Replacement | Hempstead Harbor, Port Washington | 516-767-4622; VHF 9 & 16 | May 15-Nov 1; Mon-Sun; 24 hours | 7 | Free.
33 | Town of North Hempstead—Manorhaven Beach Park | Manhasset Bay, Port Washington | 516-767-4622 | May 15-Nov 1; Wed-Sun; 8 a.m.-4 p.m | 6 | Free
34 | Town of North Hempstead—Bar Beach Park | Hempstead Harbor, Port Washington | 516-767-4622; VHF 9 & 16 | Apr-Oct; Mon-Sun; 24 hours | 6 | Free.
35 | Manhasset Bay Marina (Port Washington)—1995 Project | Manhasset Bay, Port Washington | 516-883-8411; VHF 9 & 71 | Apr 1-Oct 1; Mon-Sun; 24 hours | 15 | Free.
36 | Inspiration Wharf, c/o Ventura Management Corp | Manhasset Bay, Port Washington | 516-883-7800; VHF 7 & 9 | May 1-Oct 31; Mon-Sun; 8 a.m.-10 p.m | 6 | Free.
37 | U.S. Merchant Marine Academy | Little Neck Bay, Kings Point | 516-773-5798 | Jan-Dec; Mon-Sun; 9 a.m.-3 p.m | 6 | Free.
38 | Glen Cove Yacht Service & Repair, Inc | Hempstead Harbor, Glen Cove | 516-676-0777 | Apr-Oct; Mon-Sun; 24 hours | 6 | $5.00.
39 | City of Glen Cove—Glen Cove Yacht Club | Hempstead Harbor, Glen Cove | 516-676-1625 | N/A | 7 | Free.
40 | Brewer Marina at Glen Cove | Hempstead Harbor, Glen Cove | 800-331-3077; VHF 9 & 16 | May 1-Oct 31; Mon-Sun; 7:30 a.m.-4 p.m | 6 | $5.00.
41 | NYCDEP—Locust Point Marina | Pelham Bay, Bronx | 718-595-4458; VHF 68 | May 1-Oct 31; Mon-Sun; Sunrise to Sunset | 4 | Free.
42 | City Island Yacht Sales—Pumpout Boat | Pelham Bay, City Island | 718-885-2300; VHF 9 | Apr 1-Dec 8; Mon-Sun; 8 a.m.-4:30 p.m | N/A | $5.00.
43 | City of New Rochelle—Municipal Marina | New Rochelle Creek & Lower Harbor, New Rochelle | 914-235-7339; VHF 9 & 16 | Apr-Nov 30; Mon-Sun; 24 hours | 8 | Free.
44 | Town of Oyster Bay—Theodore Roosevelt Beach & Marina Boat Rep | Oyster Bay Harbor and Mill Neck Bay, Oyster Bay | 516-624-6180; VHF 9 | Apr 1 to Mid-Nov; 7 days/week; 24 hours | 7-8 | Free.
45 | Haven Marina | Manhasset Bay, Port Washington | 516-883-0937 | May-Sept; Mon-Sun; Sunrise to Sunset | 8 | Free.
46 | Town of Smithtown—Long Beach Park East Replacement | Stony Brook Harbor, St. James | 631-360-7620; VHF 16 | Apr-Oct; Mon-Sun; 24 hours | 4 | Free.
47 | West Shore Marine | Esopus-Lloyd-Marlborough, Marlboro | VHF 16 & 19 | Mon-Sat, 8 a.m.-5 p.m.; Sun, 10 a.m.-5 p.m | N/A | Free.
48 | City of New Rochelle—Pumpout Boat | Echo Bay, New Rochelle | 914-235-7339; VHF 9 | Memorial Day to Labor Day; Fri-Mon; 8 a.m.-4 p.m | N/A | Free.
49 | City of New Rochelle—Municipal Marina | New Rochelle Creek & Lower Harbor, New Rochelle | 914-235-7339; VHF 9 & 16 | Apr-Nov 30; Mon-Sun; 24 hours | 8 | Free.
50 | Town of Huntington—Mill Dam Boat | Huntington Harbor, Huntington | 631-351-3049; VHF 9 | Apr 20-Sept 30; Sat, Sun & Holidays; 10 a.m.-8 p.m | 8 | Free.
51 | Manhasset Pumpout Boat | Manhasset Bay, Syosset | 516-677-5853 | Fri-Sun & Holidays; 10 a.m.-6 p.m | Varies | Free.
52 | North Hempstead Pumpout Boat | Manhasset Bay | 516-767-4622; VHF 9 or 71 | Apr 1-Oct 30; Mon-Fri; 9 a.m.-3 p.m | Varies | Free.
53 | Tappen Marina Pumpout Boat | Oyster Bay Harbor and Mill Neck Bay, Oyster Bay | 516-677-5853; VHF 9 | June-Oct; Fri-Mon; 8 a.m.-6 p.m | Varies | Free.
54 | Western Waterfront Pier | Oyster Bay Harbor, Oyster Bay | VHF 9 | Memorial Day to Labor Day; 7 days/week; 24 hours | N/A | Free.
55 | Theodore Roosevelt Pumpout Boat | Oyster Bay Harbor and Mill Neck Bay, Oyster Bay | 516-677-5853; VHF 9 | Mid-Apr to Oct 31; Thu-Sun; 10 a.m.-6 p.m | Varies | Free.
56 | Soundview Boat Ramp | Northport Harbor, Northport | 631-351-3255; VHF 9 | Memorial Day to Labor Day; Sat & Sun; 8 a.m.-8 p.m | 6′ at low tide; 12′ at high tide | Free.
57 | Island Boat Yard | West Neck Harbor, Shelter Island | 631-749-3333; VHF 9 | Apr 15-Oct 15; Mon-Sun; 9 a.m.-5 p.m | 15 | $5.00.
58 | Port Jefferson Marina | Port Jefferson Harbor, Port Jefferson | 631-331-3567; VHF 9 for marina, VHF 73 for pumpout boats | Boats: May to Mid-Sept; Fri, Sat, & Sun; 8 a.m.-6 p.m. Barge: May-Nov; 7 days/week; 24 hours | 11 | Free.
59 | Brewer Yacht Yard | Greenport Harbor, Greenport | 631-477-9594; VHF 9 | Year-round however they do winterize. If requested, can run the pumpout in winter conditions. 7 days/week, 24 hours | 8 | Free for self service; $5.00 for assistance from attendant.
60 | Brewer Yacht Yard | Greenport Harbor, Greenport | 631-477-0828; VHF 9 | 5 days/week, year-round; Mon-Fri 7:30 a.m.-4 p.m.; Sat in off season 8-12; Sat in season 7:30 a.m.-7 p.m | 7-8 | N/A.
61 | Brick Cove Marina | Southold Harbor, Southold | 631-477-0830 | Mar-Dec; Mon-Fri, 7 a.m.-4 p.m.; Sat 9 a.m.-5 p.m.; Sun 1:30 p.m.-4 p.m | 6 | Yes, for non-marina customers.
62 | Goldsmith's Boat Shop | Southold Bay, Southold | 631-765-1600 | Year round; 7 days/week (closed Sun in Jan & Feb); 8:30 a.m.-4:30 p.m. (Sun 9 a.m.-4:30 p.m.) | 6 | N/A.
63 | Mt. Sinai Yacht Club | Mt. Sinai Harbor, Mt. Sinai | 631-473-2993; VHF 16 | May 15-Oct 1; May & June, open Fri, Sat, & Sun; June to Labor Day, open 7 days/week; 9 a.m.-6 p.m | 20 | None for members; $15 for outside boaters.
64 | Mt. Sinai Marina | Mt. Sinai Harbor, Mt. Sinai | 631-928-0199; VHF 9 & 73 | Marina: Mother's Day to 1st weekend in Nov. Pumpout boats: May to Mid-Sept (8 a.m.-6 p.m.) | 6 | Free.
65 | Old Man's Boatyard | Mt. Sinai Harbor, St. James | 631-473-7330 | Apr 15-Oct 15; Mon-Fri; 8 a.m.-4 p.m | 8 | $50 for pumpout.
66 | Danford's Marina | Port Jefferson Harbor, Port Jefferson | 631-928-5200; VHF 9 | May 1-Oct 31; 7 days/week; 7 a.m.-9 p.m | 3-10 | Free.
67 | Knutson West Marina | Huntington Harbor, Huntington | 631-549-7842 | N/A | N/A | N/A.
68 | Seymour's Boatyard | Northport Harbor, Northport | 631-261-6574 | Apr 15-Oct 31; 7 days/week; hours vary | 7 | N/A.

Based on the above, EPA hereby makes a final affirmative determination that adequate facilities for the safe and sanitary removal and treatment of sewage from all vessels are available for the New York State areas of the Long Island Sound.

Dated: August 15, 2011.
Judith A. Enck,
Regional Administrator, Region 2.

[FR Doc. 2011-22997 Filed 9-7-11; 8:45 am]

BILLING CODE 6560-50-P